DEPARTMENT OF COMMERCE

Foreign-Trade Zones Board

[Order No. 1295]

Expansion of Foreign-Trade Zone 40; Cleveland, Ohio Area

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, submitted an application to the Board for authority to expand FTZ 40-Site 8 at the Strongsville Industrial Park, Strongsville, Ohio, within the Cleveland Customs port of entry area (FTZ Docket 14-2003);

Whereas, notice inviting public comment was given in the Federal Register (68 FR 13255, 3/19/03) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 40-Site 8 is approved, subject to the Act and the Board's regulations, including section 400.28, and further subject to the Board's standard 2,000-acre activation limit for the overall zone project.

Signed at Washington, DC, this 21st day of August, 2003.
Jeffrey May,
Acting Assistant Secretary of Commerce for Import Administration, Alternate Chairman, Foreign-Trade Zones Board.

[FR Doc. 03-22433 Filed 9-2-03; 8:45 am]

BILLING CODE 3510-DS-P